DEPARTMENT OF THE INTERIOR

Minerals Management Service

Minerals Management Service Panel Discussion Regarding Implementation of the Energy Policy Act of 2005

AGENCY: Minerals Management Service (MMS), Interior.

ACTION: Notice of panel discussion.

SUMMARY: This notice announces a panel discussion regarding implementation of the Energy Policy Act of 2005 (Act). The panel discussion, entitled “The Energy Policy Act of '05—What Lies Ahead,” will be conducted April 25, 2006, in Houston, Texas. The intent of the panel discussion is to bring together some of the leading experts from the Department of the Interior who are responsible for implementing the provisions of the Act. The panel will discuss major provisions of the Act and will provide the latest implementation status regarding the provisions, including alternate energy related uses on the outer continental shelf (OCS); coastal impact assistance; royalty incentives; royalty credits; and streamlined oil and gas permit processing.

This panel discussion is being held in conjunction with the Eighth Annual Industry Awards Program, which honors exceptional mineral revenue reporting, commendable corporate leadership practices, and excellent safety records. The panel discussion is free of charge. Cost of the awards program and luncheon is $50, and MMS encourages interested persons to register and pay online by credit card for the awards program and luncheon. All attendees should register by Friday, April 14, 2006. Information about the event, registration, hotel reservations, and award selection criteria is available at the following Web site: http://www.mms.gov/awards.

DATES: Tuesday, April 25, 2006. Panel hours are 8:30 a.m. to 11 a.m., central time. The awards program, including luncheon, is scheduled from 11:30 a.m. to 2 p.m.

ADDRESSES: InterContinental Houston Hotel, 2222 West Loop-South, Houston, Texas, 77027, telephone (713) 627-7600.

FOR FURTHER INFORMATION CONTACT: Gina Dan, Minerals Revenue Management, Minerals Management Service, P.O. Box 25165, MS 300B2, Denver, Colorado, 80225-0165, telephone number (303) 231-3392, fax number (303) 231-3780, e-mail gina.dan@mms.gov.

SUPPLEMENTARY INFORMATION: The Act was passed by Congress and signed by the President in August 2005. The Act expands the authority of the Secretary beyond oil, gas, and minerals to include all energy-related activities, including wind and solar, and wave in the OCS. The intention of the Act is to help increase renewable and traditional energy production offshore, as well as onshore. Other provisions of the Act include coastal impact assistance, royalty incentives, royalty credits, and streamlined oil and gas permitting processes.

The panel discussion will bring together experts from the MMS and the Bureau of Land Management to discuss the major provisions of the Act, provide the implementation status of those provisions, and discuss what lies ahead as a result of the Act.

Dated: February 28, 2006.
Lucy Querques Denett,
Associate Director for Minerals Revenue Management.

[FR Doc. E6-3854 Filed 3-16-06; 8:45 am]

BILLING CODE 4310-MR-P